DEPARTMENT OF HOMELAND SECURITY

Coast Guard

[Docket No. USCG-2008-0989]

Cook Inlet Regional Citizens' Advisory Council Charter Renewal

AGENCY: Coast Guard, DHS.

ACTION: Notice of recertification.

SUMMARY: The purpose of this notice is to inform the public the Coast Guard has recertified the Cook Inlet Regional Citizens' Advisory Council (CIRCAC) as an alternative voluntary advisory group for Cook Inlet, Alaska. This certification allows the CIRCAC to monitor the activities of terminal facilities and crude oil tankers under the Cook Inlet Program established by statute.

DATES: This recertification is effective for the period from September 1, 2008, through August 31, 2009.

FOR FURTHER INFORMATION CONTACT: LT Ken Phillips, Seventeenth Coast Guard District (dpi), by phone at (907) 463-2821, or by mail at P.O. Box 25517, Juneau, Alaska 99802.

SUPPLEMENTARY INFORMATION:

Background and Purpose

As part of the Oil Pollution Act of 1990, Congress passed the Oil Terminal and Oil Tanker Environmental Oversight and Monitoring Act of 1990 (the Act), 33 U.S.C. 2732, to foster a long-term partnership among industry, government, and local communities in overseeing compliance with environmental concerns in the operation of crude oil terminals and oil tankers.

On October 18, 1991, the President delegated his authority under 33 U.S.C 2732(o) to the Secretary of Transportation in Executive Order 12777, section 8(g) (see 56 FR 54757) for purposes of certifying advisory councils, or groups, subject to the Act. On March 3, 1992, the Secretary redelegated that authority to the Commandant of the Coast Guard (see 57 FR 8582). The Commandant redelegated that authority to the Chief, Office of Marine Safety, Security and Environmental Protection (G-M) on March 19, 1992 (letter #5402).

On July 7, 1993, the Coast Guard published a policy statement, 58 FR 36504, to clarify the factors that will be considered in making the determination as to whether advisory councils, or groups, should be certified in accordance with the Act.

The Assistant Commandant for Marine Safety and Environmental Protection (G-M), redelegated recertification authority for advisory councils, or groups, to the Commander, Seventeenth Coast Guard District on February 26, 1999 (letter #16450).

On September 16, 2002, the Coast Guard published a policy statement, 67 FR 58440, which changed the recertification procedures such that applicants are required to provide the Coast Guard with comprehensive information every three years (triennially). For each of the two years between the triennial application procedure, applicants submit a letter requesting recertification that includes a description of any substantive changes to the information provided at the previous triennial recertification. Further, public comment is not solicited prior to recertification during streamlined years, only during the triennial comprehensive review.

Discussion of Comments

On August 7, 2008, the Coast Guard published a “Notice of availability; request for comments” for recertification of Cook Inlet Regional Citizens' Advisory Council in the Federal Register (73 FR 46027). We received six letters commenting on the proposed action. No public meeting was requested, and none was held. Of the seven comments received, all were positive. Comments in support of the recertification consistently cited CIRCAC's broad representation of the respective communities' interests, appropriate actions to keep the public informed, improvements to both spill response preparation and spill prevention, and oil spill industry monitoring efforts that combat complacency—as intended by the Act.

Recertification

By letter dated September 12, 2008, the Commander, Seventeenth Coast Guard certified that the CIRCAC qualifies as an alternative voluntary advisory group under 33 U.S.C. 2732(o). This recertification terminates on August 31, 2009.

Dated: September 15, 2008.
Arthur E. Brooks,
Rear Admiral, U.S. Coast Guard Commander, Seventeenth Coast Guard District.

[FR Doc. E8-23033 Filed 9-30-08; 8:45 am]

BILLING CODE 4910-15-P